DEPARTMENT OF COMMERCE

National Oceanic and Atmospheric Administration

RIN 0648-XF916

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Committee to consider actions affecting New England fisheries in the exclusive economic zone (EEZ). Recommendations from this group will be brought to the full Council for formal consideration and action, if appropriate.

DATES: This meeting will be held on Tuesday, January 9, 2018 at 9:30 a.m.

ADDRESSES: The meeting will be held at the Four Points by Sheraton, 1 Audubon Road, Wakefield, MA 01880; phone: (781) 245-9300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review an updated coral management zone alternative including boundary changes and impacts analysis. They will then recommend final preferred deep-sea coral alternatives to the Council for action during its January 30-February 1 meeting, considering any recommendations from the Habitat Advisory Panel and Plan Development Team. Many aspects of the amendment have already been finalized. The remaining topic for consideration is a coral protection zone or zones along the continental slope, canyons, and seamounts south of Georges Bank. The Committee also plans to discuss next steps stemming from the anticipated January 4 NOAA Fisheries decision on Omnibus Essential Fish Habitat Amendment 2. This will include a discussion of alternatives development for the trailing action to consider clam dredge exemption areas on Georges Bank and Nantucket Shoals, as well as a discussion about how the decision on the amendment might influence 2018 management priorities. They will also discuss any updates related to offshore wind, oil and gas development, and recommend specific projects for the Council to comment on during early 2018. The Committee will hear a progress update on fishing impacts modeling efforts and receive updates on other habitat-related aspects of the Council's fishery management program, as needed, for example ongoing EFH consultation work. Other business may be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. Consistent with 16 U.S.C. 1852, a copy of the recording is available upon request.

Authority: 16 U.S.C. 1801 et seq.

Dated: December 20, 2017.
Tracey L. Thompson,
Acting Deputy Director, Office of Sustainable Fisheries, National Marine Fisheries Service.

[FR Doc. 2017-27720 Filed 12-22-17; 8:45 am]

BILLING CODE 3510-22-P